DEPARTMENT OF ENERGY

Western Area Power Administration

Eastern Plains Transmission Project, Colorado and Kansas

AGENCY: Western Area Power Administration, DOE.

ACTION: Notice of intent to prepare an environmental impact statement; floodplain and wetlands involvement; and public scoping meetings.

SUMMARY: The U.S. Department of Energy (DOE), Western Area Power Administration (Western) intends to prepare an environmental impact statement (EIS) for its proposal to participate with Tri-State Generation and Transmission Association, Inc. (Tri-State), to construct the proposed Eastern Plains Transmission Project (Project). Western's participation with Tri-State would be in exchange for capacity rights on the transmission lines. These rights would provide Western with approximately 275 megawatts (MW) of capacity on the proposed transmission system. Western needs this additional transmission capacity to provide more economical, reliable, diverse, and flexible power delivery to its customers. The EIS will address the construction, operation, and maintenance of approximately 1,000 miles of high-voltage transmission lines and ancillary facilities. In addition, the EIS will address expansions of existing substations and construction of new substations, access roads, and fiber optic communication facilities.

The EIS will be prepared in accordance with the National Environmental Policy Act (NEPA) and DOE NEPA Implementing Procedures. Because the Project could involve action in a floodplain, the EIS will address floodplain and wetlands impacts under DOE regulations for compliance with floodplain and wetlands environmental review.

DATES: See Supplementary Information section for meeting dates and locations. The public scoping period will close September 30, 2006.

ADDRESSES: Written comments, questions, and information on the scope of the Project may be mailed, faxed, or e-mailed to Mr. Jim Hartman, Environmental Manager, Western Area Power Administration, Rocky Mountain Region, P.O. Box 3700, Loveland, CO 80539; fax (970) 461-7213; or e-mail eptp@wapa.gov. Project and contact information will also be updated regularly on the Project Internet site at http://www.wapa.gov/transmission/eptp.htm.

FOR FURTHER INFORMATION CONTACT: For further information or to request copies of the EIS, contact Mr. Hartman at the addresses provided or telephone the Project hotline toll-free at (888) 826-4710. For general information on DOE's NEPA review procedures or the status of a NEPA review, contact Ms. Carol M. Borgstrom, Director, Office of NEPA Policy and Compliance (EH-42), U.S. Department of Energy, 1000 Independence Avenue, SW., Washington, DC 20585-0119; telephone (202) 586-4600 or (800) 472-2756; or fax (202) 586-7031.

SUPPLEMENTARY INFORMATION:

Background and Need for Agency Action

Western, as an agency within DOE, markets Federal hydro-electric power to preference customers, as specified by law. They include municipalities, cooperatives, public utility and irrigation districts, Federal and state agencies, and Native American tribes in 15 Western states, including Colorado and Kansas. Western currently lacks adequate transmission capability in southeastern Colorado to serve its customers directly. Western needs additional transmission system capacity to provide more economical, reliable, diverse, and flexible power delivery to its customers. The Project would provide Western with improved access to alternative resources and suppliers by expanding the capacity and geographic reach of the transmission system. It would increase Western's options for purchasing energy to meet contractual requirements. Enhancing and expanding transmission pathways would contribute to ensuring reliability of the Federal transmission system.

Tri-State is a wholesale electric power supplier, owned by the 44 electric cooperatives it serves. Tri-State and the member utilities serve customers throughout Colorado, Nebraska, New Mexico, and Wyoming. Tri-State's board of directors approved a resource development plan, which includes generation in Kansas and Colorado and construction of a transmission system to deliver the generation to customers. The transmission portion of Tri-State's resource plan presents an opportunity for Western to obtain transmission capacity to meet Western's needs.

Western will prepare the EIS according to NEPA requirements, including the Council on Environmental Quality's NEPA Implementing Regulations under 40 CFR parts 1500-1508 and DOE's NEPA Implementing Procedures under 10 CFR part 1021. Because the Project could involve construction activities in floodplains and wetlands, the EIS will include floodplain and wetland assessments and a statement of findings, following DOE regulations for compliance with floodplain and wetlands environmental review under 10 CFR part 1022.

Proposed Action and Alternatives

Western's proposed Project activities include construction planning and management for approximately 1,000 miles of high voltage transmission lines, and acquiring rights-of-way for transmission lines, access roads, and other facilities. In addition to the transmission lines and access roads, the Project includes four new substations; expansions of approximately eight existing substations; and installing a fiber optic communications system for the transmission lines.

Preliminary locations of transmission line corridors and new substations have been identified and will be presented at the public scoping meetings. The EIS will evaluate the effects of constructing, operating, and maintaining approximately 750 miles of 500-kilovolt (kV) transmission lines and approximately 250 miles of 230- or 345-kV transmission lines; constructing four new substations; expanding eight existing substations; installing a fiber-optic communication system for the transmission lines; and constructing and maintaining associated access roads. The Project study area includes part or all of the following counties in Colorado: Adams, Arapahoe, Bent, Cheyenne, Crowley, Elbert, El Paso, Kiowa, Kit Carson, Lincoln, Morgan, Otero, Prowers, Pueblo, Washington, and Yuma; and in Kansas: Finney, Greeley, Hamilton, Kearny, Logan, Scott, Sherman, Thomas, Wallace, and Wichita.

Among the alternatives Western will address in the EIS is the no action alternative. Under the no action alternative, Western would not participate in the Project. The EIS will evaluate the environmental effects of constructing, operating, and maintaining the Project and compare them to existing conditions. Alternative transmission line routes and substation locations will be refined as part of the EIS scoping process and addressed in the EIS. Western will consider additional reasonable alternatives resulting from the scoping process. Reasonable alternatives would need to meet Western's purpose and need and be technically and economically viable.

Connected and Cumulative Actions

Western will evaluate connected and cumulative actions in the EIS. Connected actions are defined under 40 CFR 1508.25(a)(1) as, “* * * closely related * * * [that] (i) Automatically trigger other actions which may require environmental impact statements; (ii) Cannot or will not proceed unless other actions are taken previously or simultaneously; [or] (iii) Are interdependent parts of a larger action and depend on the larger action for their justification.” Western has determined that connected actions for the Project include activities associated with the construction, maintenance, and operation of the proposed transmission line and ancillary facilities, including eight substation expansions, four new substations, associated access roads, and fiber optic communications facilities.

Cumulative actions are defined in 40 CFR 1508.25(a)(2) as those, “* * * which when viewed with other proposed actions have cumulatively significant impacts. * * * ” Western has determined that cumulative actions for the Project include Tri-State's proposed generation projects as well as other past, present, and reasonably foreseeable projects.

Identification of Environmental Issues

Western invites interested agencies, Tribes, organizations, and members of the public to submit comments or suggestions to assist in identifying the appropriate scope of the EIS. The following list of potential environmental issues has preliminarily been identified for inclusion in the EIS. This list is designed to help the public frame its comments:

1. Effects on protected, threatened, endangered, or sensitive species of animals or plants; or their critical habitats;

2. Effects on other biological resources;

3. Effects on land use, recreation, and transportation;

4. Effects on floodplains and wetlands;

5. Effects on cultural or historic resources and Tribal values;

6. Effects on human health and safety (including military, civilian, and agricultural aviation safety);

7. Effects on air, soil, and water resources;

8. Effects on agricultural operations;

9. Effects on visual resources; and

10. Effects on socioeconomic resources and disproportionately high and adverse impacts on minority and low-income groups.

This list is not intended to be all-inclusive or to imply predetermination of impacts. Western invites interested parties to suggest specific issues within these general categories or other issues not included above for consideration in the EIS.

Scoping Process

With this Notice of Intent, Western invites public participation in the EIS scoping process and solicits public comments to help establish the scope and content of the EIS. Scoping will allow Western to obtain information that will refine the preliminary Project alternatives; identify environmental issues to be considered in the EIS; and help eliminate, from detailed study, those alternatives and issues that are not feasible or relevant. To be assured consideration, all comments on the scope of the EIS must be received by the end of the scoping period.

Meetings

The dates and meeting locations are:

1. August 28, 2006, Carroll Building, 418 Edison Street, Brush, CO 80723.

2. August 29, 2006, City Hall, Community Room, 245 W. 4th Street, Wray, CO 80758.

3. August 30, 2006, Limon Community Building, North Room, 477 D Avenue, Limon, CO 80828.

4. August 31, 2006, Holiday Inn-Denver International Airport, Breckenridge Ballroom, 15500 East 40th Avenue, Aurora, CO 80239.

5. September 5, 2006, Lorraine High School/Community Center, 301 E. Iowa Avenue, Fountain, CO 80817.

6. September 6, 2006, Pueblo Convention Center, Fortino Grand Hall C-West, 320 Central Main Street, Pueblo, CO 81003.

7. September 11, 2006, Burlington Education and Community Center, 420 S. 14th Street, Old Town, Burlington, CO 80807.

8. September 12, 2006, Community Activity Building (CAB Building), Wallace County Fairgrounds, Sharon Springs, KS 67758.

9. September 13, 2006, Lamar Community Building, Multi-Purpose Room, 610 South 6th Street, Lamar, CO 81052.

10. September 14, 2006, Veteran's Memorial Building, 207 North Main Street, Lakin, KS 67860.

The time for each scoping meeting is 3 to 8 p.m. The meetings will be in an informal, “open house” format. No formal presentations are planned for the scoping meetings. The meetings are designed to provide interested parties the opportunity to receive information on the Project and the NEPA process, ask questions, and provide input and feedback through written and oral comments. All meeting locations are wheelchair accessible. Any individual needing special accommodations should contact Mr. Hartman.

Participation in the NEPA Process

Western invites interested Tribes and Federal, state, and local agencies with jurisdiction or special expertise to be cooperating agencies on the EIS. Request to be a cooperating agency by contacting Mr. Hartman. Designated cooperating agencies have certain responsibilities to support the NEPA process, as specified under 40 CFR 1501.6(b).

Persons interested in receiving future notices, project information, copies of the EIS, and other information on the NEPA review process should contact Mr. Hartman. The EIS (choice of summary or full document) will be available in printed and electronic (compact disc) formats.

Western anticipates the Draft EIS will be available summer 2007, with a Final EIS available spring 2008. A Record of Decision is expected to be issued spring 2008. The public will be provided opportunities to review progress on the identification of transmission line corridors and routes during public workshops, which will be scheduled after public scoping and prior to preparation of the Draft EIS. The location of additional public meetings and hearings will be provided in the Federal Register and/or to local media at a later date.

Dated: July 21, 2006.
Michael S. Hacskaylo,
Administrator.

[FR Doc. E6-12426 Filed 8-1-06; 8:45 am]

BILLING CODE 6450-01-P